DEPARTMENT OF THE INTERIOR

National Park Service

[NPS-WASO-NRNHL-0512-10297; 2200-3200-665]

National Register of Historic Places; Notification of Pending Nominations and Related Actions

Nominations for the following properties being considered for listing or related actions in the National Register were received by the National Park Service before May 5, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by June 15, 2012. Before including your address, phone number, email address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

INDIANA

La Porte County

Garwood, John and Cynthia, Farmstead, 5600 Small Rd., La Porte, 12000334

Lake County

Indi—Illi Park Historic District, (Historic Residential Suburbs in the United States, 1830-1960 MPS) Roughly bounded by Locust & 169th Sts., Hohman & State Line Aves., Hammond, 12000335

Marion County

Watson Park Historic District, Roughly bounded by 38th St., Watson Rd., Birchwood, Fairfield, & Central Aves., Indianapolis, 12000336

Marshall County

Boggs, Lewis and Sarah, House, 9564 14th Rd., Argos, 12000337

Hoham—Klinghammer—Weckerle House and Brewery Site, 1715 Lake Ave., Plymouth, 12000338

Pulaski County

Monterey Bandstand, Walnut St., Monterey, 12000339

MASSACHUSETTS

Norfolk County

Sullivan's Corner Historic District, Roughly jct. of Main, Needham, & Seekonk Sts., Norfolk, 12000340

NEW YORK

Erie County

Automobile Club of Buffalo, 10405 Main St., Clarence, 12000341

Monroe County

Church of Saints Peter and Paul Complex, 720 & 736 W. Main, & 681 Brown Sts., Rochester, 12000342

Payne, William A., House, 505 Elmgrove Rd., Greece, 12000343

Ulster County

Ellenville Downtown Historic District, Canal, Center, Liberty, Main, & Market Sts., Ellenville, 12000344

NORTH CAROLINA

Durham County

Scott and Roberts Dry Cleaning Plant, Office, and Store, 733 Foster St., Durham, 12000345

OKLAHOMA

Garfield County

Clay Hall, 311-325 Lakeview Dr., Enid, 12000346

Oklahoma County

Osler Building, 1200 N. Walker Ave., Oklahoma City, 12000347

Tulsa County

Whittier Square Historic District, (Route 66 and Associated Resources in Oklahoma AD MPS) Roughly between Lewis, & Zunis Aves., E. 1st St., & I-244, Tulsa, 12000348

Wagoner County

Jamison Cemetery, 2 mi. S. on OK 16 & 2 mi. W. on Cty. Rd. E0820, Okay, 12000349

TEXAS

Dallas County

Dallas Coffin Company, 1325 S. Lamar, Dallas, 12000350

Harris County

Mellinger, Marguerite Meachum & John S., House, 3452 Del Monte Dr., Houston, 12000351

Somervell County

Oakdale Park, 1019 NE. Barnard St., Glen Rose, 12000352

WISCONSIN

Columbia County

Old Indian Agency House (Boundary Increase), 1490 Agency House Rd., Portage, 12000353

Milwaukee County

Wauwatosa Avenue Residential Historic District, 1809-1845 (odd only) & 1907 to 2242 Wauwatosa, & 7606 & 7624 Stickney Aves., Wauwatosa, 12000354

A request for removal has been made for the following resources:

INDIANA

Knox County

Rose Hill Farmstead, Co. Rd. ce10s, 0.25 mi. N of jct. with Old Wheatland Rd., Vincennes, 95000202

Morgan County

Hite—Finney House, 183 N. Jefferson St., Martinsville, 95001532

Wayne County

Richmond Gas Company Building, 100 E. Main St., Richmond, 81000023

[FR Doc. 2012-13135 Filed 5-30-12; 8:45 am]

BILLING CODE 4312-51-P